DEPARTMENT OF THE INTERIOR

Fish and Wildlife Service

[FWS-R4-ES-2016-N093; FF04E00000-1113-0000-178]

Proposed Candidate Conservation Agreement With Assurances for Camp Blanding Joint Training Center, Florida

AGENCY: Fish and Wildlife Service, Interior.

ACTION: Notice of availability.

SUMMARY: This notice advises the public that the Florida Department of Military Affairs, via the Florida Armory Board (applicant), has applied for an enhancement of survival permit associated with a candidate conservation agreement with assurances (CCAA) pursuant to the Endangered Species Act of 1973, as amended. The permit application includes a proposed CCAA between the applicant, the Service, and the Florida Fish and Wildlife Conservation Commission for 22 species, including 2 Federal candidate species—the striped newt and the gopher tortoise—and 20 other at-risk species, including Florida State-listed species. The CCAA will cover 46,494 acres of the Camp Blanding Joint Training Center, which is located in Clay County, Florida. The duration of the CCAA is 15 years. We invite public comments on the application.

DATES: We must receive written comments at our Regional Office (see ADDRESSES) on or before January 11, 2017.

ADDRESSES: Obtaining Documents for Review: You may obtain a copy of the application and associated documents by contacting Mr. Jay Herrington, Field Supervisor, Fish and Wildlife Service, North Florida Ecological Services Field Office, 7915 Baymeadows Way, Suite 200, Jacksonville, FL 32256. Documents are also available for public inspection by appointment during normal business hours at the Fish and Wildlife Service's Regional Office, 1875 Century Boulevard, Atlanta, GA 30345, or at the Service's North Florida Ecological Services Field Office. Note that requests for application documents must be in writing to be processed. When requesting information about or submitting comments regarding this notice, please reference “Camp Blanding Candidate Conservation Agreement with Assurances; TE 72196B” in your correspondence.

Submitting Comments: See the Public Comments section under SUPPLEMENTARY INFORMATION.

FOR FURTHER INFORMATION CONTACT: Mr. Michael Harris, At-Risk Species Coordinator, at the Atlanta Regional Office (see ADDRESSES), telephone: 404-679-7066; or Ms. Lourdes Mena, Endangered Species Biologist, at the North Florida Ecological Services Field Office (see ADDRESSES), telephone: 904-731-3119.

SUPPLEMENTARY INFORMATION: This notice advises the public that the Florida Department of Military Affairs via the Florida Armory Board (applicant) has applied for an enhancement of survival permit (permit) associated with a candidate conservation agreement with assurances (CCAA) pursuant to the Endangered Species Act of 1973, as amended (16 U.S.C. 1531 et seq.). The permit application includes a proposed CCAA between the applicant, the Service, and the Florida Fish and Wildlife Conservation Commission for 22 species, including 2 Federal candidate species—the striped newt (Notophthalmus viridescens) and the gopher tortoise (Gopherus polyphemus)—and 20 other at-risk species, including Florida State-listed species (covered species). The CCAA will cover 46,494 acres of the Camp Blanding Joint Training Center, which is located in Clay County, Florida (enrolled lands). The duration of the CCAA is 15 years. We invite public comments on the application.

Introduction

CCAAs encourage private and other non-Federal property owners to implement conservation efforts for candidate and at-risk species while providing regulatory assurances to the property owners that they will not be subjected to increased property use restrictions should the species become listed as threatened or endangered under the Act. Application requirements and issuance criteria for enhancement of survival permits through CCAAs are found in 50 CFR 17.22(d) and 17.32(d).

Under the CCAA, the applicant agrees to voluntarily undertake conservation practices on the enrolled lands to protect, enhance, restore, and/or maintain habitat benefiting the covered species. In turn, the applicant will receive regulatory assurances and incidental take authorization should a covered species be federally listed in the future. The conservation practices vary according to the six habitat types that support the covered species on the enrolled lands. These practices include use of prescribed fire and thinning to maintain forest habitats, protection of wetlands and streams through the maintenance of riparian zones and prohibition of impoundments and channelization, and other actions such as monitoring and control of invasive exotic species.

Request for Information

We specifically request information, views, and opinions from the public via this notice on our proposed Federal action, including our determination that the applicant's proposal, including the proposed mitigation and minimization measures, would have minor or negligible effects on the species covered in their CCAA. Therefore, our proposed issuance of the requested permit qualifies as a categorical exclusion under the National Environmental Policy Act, as provided by Department of the Interior implementing regulations in part 46 of title 43 of the Code of Federal Regulations (43 CFR 46.205, 46.210, and 46.215). A low-effect CCAA is one involving (1) Minor or negligible effects on federally listed or candidate species and their habitats, and (2) minor or negligible effects on other environmental values or resources. We also solicit information regarding the adequacy of the CCAA per 50 CFR parts 13 and 17.

Public Comments

Before including your address, phone number, email address, or other personal identifying information in your comment, you should be aware that your entire comment—including your personal identifying information—may be made publicly available at any time. While you can request in your comment that we withhold your personal identifying information from public review, we cannot guarantee that we will be able to do so.

If you wish to comment, you may submit comments by one of the following methods. You may mail comments to the Fish and Wildlife Service's Atlanta Regional Office (see ADDRESSES) or comment via the internet to michael_harris@fws.gov. Please include your name and return address in your email message. If you do not receive a confirmation from us that we have received your email message, contact us directly at either of the telephone numbers listed under FOR FURTHER INFORMATION CONTACT. You also may hand-deliver comments to either of our offices listed under ADDRESSES. Please reference “Camp Blanding Candidate Conservation Agreement with Assurances; TE 72196B” in any comments you submit.

Next Steps

We will evaluate the applicant's enhancement of survival permit application, including the CCAA and any comments we receive, to determine whether the permit issuance requirements of section 10(a)(1)(A) of the Act are met. We will also evaluate via an intra-Service consultation on whether issuance of the section 10(a)(1)(A) permit would comply with section 7 of the Act. If we determine that the requirements are met, we will issue the requested permit to the applicant in accordance with the applicable regulatory requirements. We will not make a final decision on whether to issue the permit until after the close of the 30-day comment period.

Authority

We provide this notice under section 10 of the Act (16 U.S.C. 1531 et seq.) and NEPA regulations (40 CFR 1506.6).

Dated: December 2, 2016.
Mike Oetker,
Acting Regional Director.

[FR Doc. 2016-29677 Filed 12-9-16; 8:45 am]

BILLING CODE 4333-15-P